DEPARTMENT OF HEALTH AND HUMAN SERVICES

Centers for Medicare & Medicaid Services

[Document Identifier: CMS-2744, CMS-10304 and CMS-10282]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Reinstatement without change of a previously approved collection; Title of Information Collection: End Stage Renal Disease (ESRD) Medical Information Facility Survey; Form Number: CMS-2744 (OMB#: 0938-0447); Use: The End Stage Renal Disease (ESRD) Medical Information Facility Survey form (CMS-2744) is completed annually by Medicare-approved providers of dialysis and transplant services. The CMS-2744 is designed to collect information concerning treatment trends, utilization of services and patterns of practice in treating ESRD patients. The information is used to assess and evaluate the local, regional and national levels of medical and social impact of ESRD care and is used extensively by researchers and suppliers of services for trend analysis. The information is available on the CMS Dialysis Facility Compare Web site and will enable patients to make informed decisions about their care by comparing dialysis facilities in their area. Frequency: Yearly; Affected Public: Business or other for-profit, not-for-profit institutions; Number of Respondents: 5,465; Total Annual Responses: 5,465; Total Annual Hours: 43,720. (For policy questions regarding this collection contact Connie Cole at 410-786-0257. For all other issues call 410-786-1326.)

2. Type of Information Collection Request: New collection; Title of Information Collection: Information Collection Requirements and Supporting Information for Chronic Kidney Disease Surveys under the 9th Scope of Work; Form Number: CMS-10304 (OMB#: 0938-New); Use: The Centers for Medicare & Medicaid Services (CMS) and the U.S. Department of Health and Human Services (DHHS) are requesting OMB clearance for the Chronic Kidney Disease (CKD) Partner Survey and the Chronic Kidney Disease (CKD) Provider Survey. The Prevention CKD Theme is a component of the Prevention Theme of the Quality Improvement Organization (QIO) Program's 9th Scope of Work (SOW). The statutory authority for this scope of work is found in Part B of Title XI of the Social Security Act (the Act) as amended by the Peer Review Improvement Act of 1982. The Act established the Utilization and Quality Control Peer Review Organization Program, now known as the Quality Improvement Organization (QIO) Program.

The goal of the Prevention CKD Theme is to detect the incidence, decrease the progression of CKD, and improve care among Medicare beneficiaries through provider adoption of timely and effective quality of care interventions; participation in quality incentive initiatives; beneficiary education; and key linkages and collaborations for system change at the state and local level. In addition to improving the quality of care for the elderly and frail-elderly, this Theme aims to reduce the rate of Medicare entitlement by disability through the delay and prevention of end-stage renal disease (ESRD); thus resulting in higher quality care and significant savings to the Medicare Trust Fund.

The CKD Partner Survey constitutes a new information collection to be used by CMS to obtain information on how QIO collaboration with partners facilitates systems change within the QIO's respective state. The CKD Partner Survey will be a census administered to 350 collaborative partners in the 9th SOW. The CKD Partner Survey will be administered via telephone. Responses will be entered into a pre-programmed Computer-Assisted Telephone Interviewing (CATI) interface. The results of the survey shall be used for inpatient quality indicators (IQI) by the QIO. CMS will also use the results to assess how partner organizations and their perspective of the QIO's role are implementing system change.

Similarly, the CKD Provider Survey constitutes a new information collection to be used by CMS to obtain information on how QIO collaboration with physician practices facilitates systems change within the QIO's respective state. The CKD Provider Survey will be administered via telephone and the Web. Responses collected by phone will be entered into a pre-programmed Computer-Assisted Telephone Interviewing (CATI) interface. Responses collected by Web will be housed on a secure server and database. The results of the survey shall be used for inpatient quality indicators (IQI) by the QIO. CMS will also use the results to assess how physicians' practices and their perspective of the QIO's role are implementing system change. Frequency: Yearly; Affected Public: Private Sector—business or other for-profits and not-for profit institutions; Number of Respondents: 1,350; Total Annual Responses: 1,350; Total Annual Hours: 337.5. (For policy questions regarding this collection contact Robert Kambic at 410-786-1515. For all other issues call 410-786-1326.)

3. Type of Information Collection Request: New collection; Title of Information Collection: Conditions of Participation for Comprehensive Outpatient Rehabilitation Facilities (CORFs) and supporting regulations in 485.50, 485.51, 485.54, 485.56, 485.58, 485.60, 485.62, 485.64, 485.66, 485.70, and 485.74.; Form Number: CMS-10282 (OMB#: 0938-New); Use: The Conditions of Participation (CoPs) and accompanying requirements specified in the regulations are used by our surveyors as a basis for determining whether a comprehensive outpatient rehabilitation facility (CORF) qualifies to be awarded a Medicare provider agreement. CMS believes the health care industry practice demonstrates that the patient clinical records and general content of records are necessary to ensure the well-being and safety of patients and that professional treatment and accountability are a normal part of industry practice. Frequency: Yearly; Affected Public: Business or other for-profit, not-for-profit institutions; Number of Respondents: 446; Total Annual Responses: 446; Total Annual Hours: 30,105. (For policy questions regarding this collection contact Monique Howard 410-786-3869. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on April 12, 2010:

OMB, Office of Information and Regulatory Affairs, Attention: CMS Desk Officer, Fax Number: (202) 395-6974, E-mail: OIRA_submission@omb.eop.gov.

Dated: March 8, 2010.
Michelle Shortt,
Director, Regulations Development Group, Office of Strategic Operations and Regulatory Affairs.

[FR Doc. 2010-5428 Filed 3-11-10; 8:45 am]

BILLING CODE 4120-01-P